DEPARTMENT OF COMMERCE

International Trade Administration

A-570-806

Final Results and Final Partial Rescission of Antidumping Duty Administrative Review: Silicon Metal From the People’s Republic of China

AGENCY: Import Administration, International Trade Administration, Department of Commerce.

EFFECTIVE DATE: August 11, 2008.

FOR FURTHER INFORMATION CONTACT: Susan Pulongbarit or Scot Fullerton, AD/CVD Operations, Office 9, Import Administration, International Trade Administration, U.S. Department of Commerce, 14th Street and Constitution Avenue, NW, Washington, DC 20230; telephone: (202) 482-4031 and (202) 482-1386, respectively.

SUPPLEMENTARY INFORMATION:

Background

On June 1, 2007, the Department published a notice of opportunity to request an administrative review of the antidumping duty order on silicon metal from the People’s Republic of China (“PRC”) for the period of review (“POR”) June 1, 2006, through May 31, 2007. See Antidumping or Countervailing Duty Order, Finding, or Suspended Investigation; Opportunity to Request Administrative Review, 72 FR 30542 (June 1, 2007). On July 2, 2007, Globe Metallurgical Inc. (“Petitioner”), requested that the Department conduct an administrative review of 18 companies (collectively, “Respondents”). On August 6, 2007, the Department published a notice of initiation of an antidumping duty administrative review on silicon metal from the PRC, in which it initiated a review of these Respondents. See Notice of Initiation of the Administrative Review of the Antidumping Duty Order on Silicon Metal from the People’s Republic of China, 72 FR 43597 (August 6, 2007) (“Initiation Notice”).

On March 7, 2008, we preliminarily rescinded this review for certain companies based on evidence on the record indicating that there were no entries into the United States, and applied adverse facts available (“AFA”) to other companies which did not respond to our quantity and value (“Q&V”) questionnaire. See Silicon Metal From The People's Republic of China: Preliminary Results and Preliminary Partial Rescission of Antidumping Duty Administrative Review, 73 FR 12378 (March 7, 2008) (“Preliminary Results”). We invited interested parties to submit comments on our Preliminary Results. We received a case brief from Petitioner on April 8, 2008 (“Petitioner Case Brief”). No other comments were submitted by any interested party. On June 12, 2008, we held public and closed hearings, and the transcripts for these hearings were placed on the record on June 19, 2008.

Scope of the Order

The product covered by the order is silicon metal containing at least 96.00 but less than 99.99 percent of silicon by weight, and silicon metal with a higher aluminum content containing between 89 and 96 percent silicon by weight. The subject merchandise is currently classifiable under item numbers 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to this order. This order is not limited to silicon metal used only as an alloy agent or in the chemical industry. Although the HTSUS subheadings are provided for convenience and customs purposes, the written description of the merchandise is dispositive.

Period of Review

The POR is June 1, 2006, through May 31, 2007.

Analysis of Comments Received

All issues raised in Petitioner’s April 8, 2008 case brief are addressed in the Silicon Metal from the People’s Republic of China: Issues and Decision Memorandum for the Final Results in the 2006-2007 Administrative Review from Stephen J. Claeys, Deputy Assistant Secretary, to David M. Spooner, Assistant Secretary, dated August 4, 2008, (“I&D Memo”), which is hereby adopted by this notice. A list of the issues raised, all of which are addressed in the I&D Memo, is attached to this notice as Appendix I. Parties can find a complete discussion of all issues raised in the briefs and the corresponding recommendations in this public memorandum, which is on file in the Central Records Unit (“CRU”), room 1117 of the Department of Commerce. In addition, a complete version of the I&D Memo can be accessed directly on the internet at http://trade.gov/ia. The paper copy and electronic version of the I&D Memo are identical in content.

Final Rescission of Review

In the Preliminary Results, the Department issued a notice of intent to rescind this administrative review with respect to certain companies, as Jiangxi Gangyuan Silicon Industry (“Gangyuan”); MPM Silicones, LLC (“MPM”); GE Silicones Canada (“GE Silicones”); Global Minerals Corp. (“GMC”); Transtrading House Ltd. (“Transtrading”); Lorbec Metals Ltd. (“Lorbec”); Carbonsi Mettalurgical Inc. (“Carbonsi”); Crown All Corporation (“Crown All”); Ferro-Alliages& Mineraux Inc. (“Ferro-Alliages”); Chemical & Alloy Inc. (“C&A”); IMMECC Resources Inc. (“IMMECC”); and Bomet (Canada) Inc. (“Bomet”), each certified that they did not export silicon metal from China to the United States during the POR. See Preliminary Results, 73 FR 12378. Subsequent to the Preliminary Results, Petitioners again claimed that record evidence indicated that Ferro-Alliages may have transshipped silicon metal to the United States through Canada that originated in China.¹ See Petitioner Case Brief at 1-12. Petitioner requested that, given these allegations, the Department should investigate whether Ferro-Alliages accurately reported the country of origin of the silicon metal that it shipped to the United States during the POR. For these final results, however, we have determined not to further investigate alleged Ferro-Alliages exports of PRC-origin silicon metal, as CBP data indicate that no entries exist for PRC-origin silicon metal exported to the United States by Ferro-Alliages. In addition, as this is an administrative review, not a circumvention or scope inquiry, we find that this is not the proper proceeding to pursue Petitioner’s claims.

¹ Petitioner first raised the issue of alleged transshipment by Ferro-Alliages in its November 13, 2007, submission to the Department. See Petitioner’s November 13, 2007, submission, at page 1. The Department addressed these allegations in its Preliminary Results. See Preliminary Results, 73 FR at 12379.

Because there is no information on the record which indicates that Gangyuan; MPM; GE Silicones; GMC; Transtrading; Lorbec; Carbonsi; Crown All; Ferro-Alliages; C&A; IMMECC; and Bomet made sales to the United States of subject merchandise during the POR, in accordance with 19 CFR 351.213(d)(3) and consistent with our practice, we are rescinding this review of the antidumping duty order on silicon metal from the PRC for the period of June 1, 2006, through May 31, 2007. See, e.g., Stainless Steel Sheet and Strip in Coils from Japan; Final Rescission of Antidumping Duty Administrative Review, 71 FR 26041, 26043 (May 3, 2006).

In addition, in the Preliminary Results, the Department indicated that it was unable to directly serve Global Minerals (Canada), SeaView Trading, or Coldstone with its Q&V questionnaire. See Memorandum to the File from Kristina Horgan, Senior International Trade Analyst, AD/CVD Operations, Office 9, regarding “Antidumping Duty Administrative Review of Silicon Metal from the People’s Republic of China: Proof of Non-Delivery to Global Minerals (Canada) and SeaView Trading,” dated November 9, 2007; see also Memorandum to the File from Michael Quigley, International Trade Analyst, AD/CVD Operations, Office 9, regarding “Antidumping Duty Administrative Review of Silicon Metal from the People’s Republic of China: Record of Mailings to Coldstone Metals Inc.,” dated November 20, 2007 (“Coldstone Memo”).

In its April 8, 2008, case brief, Petitioners requested that the Department apply adverse facts available (“AFA”) to Coldstone for not responding to the Department’s initial August 24, 2007 Q&V questionnaire. The Department finds that we cannot penalize Coldstone for not responding to the Department’s second Q&V letter, as the Department was unable to inform the party of the nature of the deficiency on the record. See I&D Memo, at Comment 2. Therefore, the Department is rescinding the review with respect to Coldstone, Global Minerals (Canada) and SeaView Trading, in accordance with our practice. See, e.g., Certain Steel Concrete Reinforcing Bars from Turkey: Final Results and Rescission of Antidumping Duty Administrative Review in Part, 71 FR 65082, 65083 (November 7, 2006).Use of Facts Otherwise Available and the PRC-Wide Rate

In the Preliminary Results, the Department found that Hunan Provincial Import & Export Group Co (PRC) (“Hunan Provincial”), Gather Hope Int’l Co., Ltd. (“Gather Hope”), and Alloychem Impex Corp. (“Alloychem”) ceased participating in the administrative review, as the companies did not respond to the Department’s requests for Q&V information. As noted in the Preliminary Results, the Department found that Hunan Provincial, Gather Hope, and Alloychem did not establish their eligibility for separate rate status, and thus such entities are deemed part of the PRC-wide entity. As the Department found that the PRC-wide entity failed to cooperate to the best of its ability in responding to the Department’s requests for information, the Department assigned the PRC-wide entity a rate based on AFA. The Department did not receive comments prior to these final results regarding the Department’s preliminary application of AFA to the PRC-wide entity.

Therefore, for these final results, the Department has not altered its decision from the Preliminary Results to apply total AFA to the PRC-wide entity accordance with sections 776(a)(2)(A) and (B) and section 776(b) of the Act, and has assigned an AFA rate of 139.49 percent. See Preliminary Results at 12381.

Final Results of Review

We determine that the following antidumping duty margin exists for the period June 1, 2006, through May 31, 2007:

Silicon Metal from the PRC
PRC-Wide Entity² | 139.49
² The PRC-Wide Entity includes Hunan Provincial, Gather Hope, and Alloychem.

Assessment Rates

The Department will instruct Customs Border Patrol (“CBP”) to assess antidumping duties on all appropriate entries. For those companies for which this review has been rescinded, antidumping duties shall be assessed at rates equal to the cash deposit of estimated antidumping duties required at the time of entry, or withdrawal from warehouse, for consumption, in accordance with 19 CFR 351.212(c)(1)(I). The Department will issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary’s presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: August 04, 2008.
David M. Spooner,
Assistant Secretary for Import Administration.

[FR Doc. E8-18477 Filed 8-8-08; 8:45 am]

BILLING CODE 3510-DS-S